DEPARTMENT OF TRANSPORTATION

Federal Transit Administration

Notice To Rescind Notice of Intent To Prepare an Environmental Impact Statement (EIS) for Proposed Transit Improvements in the Corridor Between the Anaheim Regional Transportation Intermodal Center (ARTIC) and the Anaheim Resort® in the City of Anaheim, Orange County, California

AGENCY: Federal Transit Administration, DOT.

ACTION: Rescind notice of intent to prepare an Environmental Impact Statement.

SUMMARY: The Federal Transit Administration (FTA), in cooperation with the Orange County Transportation Authority (OCTA) and the City of Anaheim, are issuing this notice to advise the public that the Notice of Intent (NOI) to prepare an Environmental Impact Statement (EIS) for proposed transit improvements in the corridor between the Anaheim Regional Transportation Intermodal Center (ARTIC) and The Anaheim Resort in the city of Anaheim is being rescinded.

FOR FURTHER INFORMATION CONTACT: Mr. Ted Matley, Community Planner, Region IX, Federal Transit Administration, 201 Mission Street, Suite 1650, San Francisco, CA 94105, phone (415) 744-2590, email ted.matley@dot.gov.

SUPPLEMENTARY INFORMATION: The FTA, in cooperation with the OCTA and the City of Anaheim, published a NOI in the Federal Register on October 27, 2009 (74 FR 55279-55281) to prepare an EIS for proposed transit improvements over a 3.5-mile corridor between the future Anaheim Regional Transportation Intermodal Center on the east and The Anaheim Resort on the west in the City of Anaheim. At that time, the alternatives proposed for evaluation included: A No-Build Alternative, a Transportation System Management Alternative, a Bus Rapid Transit Alternative, and an Elevated Fixed-Guideway Alternative. In October 2012, an Alternatives Analysis was completed, which screened these alternatives as well as a Streetcar Alternative. Based upon the results of the AA, in October 2012, the Anaheim City Council selected the Streetcar Alternative as the LPA for further environmental analysis.

The mode and alignment for the proposed project has been refined substantially. It is anticipated that an Environmental Assessment, leading to a Finding of No Significant Impact (FONSI), would be the appropriate class of action under NEPA. Therefore, the FTA has determined that the NOI for the EIS will be rescinded.

Comments and questions concerning the proposed action should be directed to FTA at the address provided above.

Issued on: January 24, 2014.
Leslie T. Rogers,
Regional Administrator, Federal Transit Administration, Region IX.

[FR Doc. 2014-01925 Filed 2-5-14; 8:45 am]

BILLING CODE 4910-57-P